DEPARTMENT OF THE INTERIOR

National Park Service

[NPS-WASO-BSAD-CONC-NPS0030497; PPWOBSADC6, PPMVSCS1Y.Y00000, (200) P103601; OMB Control Number 1024-0233]

Agency Information Collection Activities; Submission to the Office of Management and Budget for Review and Approval; National Park Service Leasing Program

AGENCY: National Park Service, Interior.

ACTION: Notice of Information Collection; request for comment.

SUMMARY: In accordance with the Paperwork Reduction Act of 1995, we, the National Park Service (NPS) are proposing to renew an information collection with revisions.

DATES: Interested persons are invited to submit comments on or before September 30, 2020.

ADDRESSES: Written comments and recommendations for the proposed information collection should be sent within 30 days of publication of this notice to www.reginfo.gov/public/do/PRAMain. Find this particular information collection by selecting “Currently under 30-day Review—Open for Public Comments” or by using the search function. Please provide a copy of your comments to Phadrea Ponds, NPS Information Collection Clearance Officer, 1201 Oakridge Drive Fort Collins, CO 80525; or by email at phadrea_ponds@nps.gov. Please reference OMB Control Number 1024-0233 in the subject line of your comments.

FOR FURTHER INFORMATION CONTACT: To request additional information about this ICR, contact Gordy Kito, Leasing Program Manager, Commercial Services Division by email at gordy_kito@nps.gov; or by telephone at 202-354-2096. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on March 18, 2020 (85 FR 15496). No public comments were received in response to this notice.

As part of our continuing effort to reduce paperwork and respondent burdens, we are again soliciting comments from the public and other Federal agencies on the proposed ICR that is described below. We are especially interested in public comment addressing the following:

(1) Whether or not the collection of information is necessary for the proper performance of the functions of the NPS, including whether or not the information will have practical utility;

(2) The accuracy of our estimate of the burden for this collection of information, including the validity of the methodology and assumptions used;

(3) Ways to enhance the quality, utility, and clarity of the information to be collected; and

(4) How might the NPS minimize the burden of the collection of information on those who are to- respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The NPS Leasing Program allows any person or government entity to lease buildings and associated property administered by the Secretary of the Interior as part of the National Park System, under the authority of the Director of the NPS. A lease may not authorize an activity that could be authorized by a concessions contract or commercial use authorization. All leases must provide for the payment of fair market value rent. The Director may retain rental payments for park infrastructure needs and, in some cases, to provide administrative support of the leasing program.

The authority to collect information for the Leasing Program is derived from 54 U.S.C. 102101 et seq., 54 U.S.C. 306121, and 36 CFR part 18. For competitive leasing opportunities, the regulations require the submission of proposals or bids by parties interested in applying for a lease. The regulations also require that the Director approve lease amendments, construction or demolition of structures, and encumbrances on leasehold interests.

We collect information from anyone who wishes to submit a bid or proposal to lease a property. The Director may issue a request for bids if the amount of rent is the only criterion for award of a lease. The Director issues a request for proposals when the award of a lease is based on selection criteria other than the rental rate. A request for proposals may be preceded by a request for qualifications to select a “short list” of potential offerors that meet minimum management, financial, and other qualifications necessary for submission of a proposal.

We use the information collected to evaluate offers, proposed subleases or assignments, proposed construction or demolition, the merits of proposed lease amendments, and proposed encumbrances. The completion times for each information collection requirement vary substantially depending on the complexity of the leasing opportunity.

The forms were revised from our previous submission to allow for simpler forms to be used for businesses that are owned by an Individual or Sole Proprietor and to accommodate bids for smaller leases that require less financial detail. The proposed revisions are detailed below:

Revision #1:

• Previous Form Name: 10-352 Identification and Credit Information

• Revised Form Name: 10-352 Business History Information

• Revised Forms: 10-353 Business Organization Information: Corporation, Limited Liability Company, Partnership, or Joint Venture; and 10-354 Individual or Sole Proprietorship

Rationale for change: Based upon comments received from previous users of the forms, the program determined that the level of detail required for the offeror's business history is not the same for small business and large corporations. Therefore, Form 10-352 was revised to provide a simplified application process for small businesses responding to requests for bids on smaller leasing opportunities. Forms 10-353 and 10-354 were also revised from our previous submission to allow for simpler forms to be used for businesses that are owned by an Individual or Sole Proprietor and for smaller leases that require less financial detail.

Revision #2

• Previous Form: 10-355 Financial Information for Revenue Producing Uses

• Revised Forms: 10-355A Offeror Financial Statements and Projections—(Small Leases); and 10-355B Offeror Financial Statements and Projections—(Large Leases)

Rationale for change: The change in the form is in response to comments received from applicants not understanding the financial information required. The revised forms allow for a more thorough description of larger more complex leases that include substantial investments in capital improvements.

Title of Collection: National Park Service Leasing Program, 36 CFR part 18.

OMB Control Number: 1024-0233.

Form Number: NPS Forms 10-352, 10-353, 10-354, 10-355A and 10-355B.

Type of Review: Revision of a currently approved collection.

Respondents/Affected Public: Individuals and businesses seeking to submit a bid or proposal to lease NPS property.

Total Estimated Number of Annual Responses: 250.

Estimated Completion Time per Response: Varies from 4 hours to 45 hours, depending on activity.

Total Estimated Number of Annual Burden Hours: 1,649.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2020-19143 Filed 8-28-20; 8:45 am]

BILLING CODE 4312-52-P